DEPARTMENT OF HEALTH AND HUMAN SERVICES

Health Care Financing Administration

[HCFA-2112-N]

Medicaid Program; Infrastructure Grant Program To Support the Competitive Employment of People With Disabilities

AGENCY: Health Care Financing Administration (HCFA), HHS.

ACTION: Notice.

SUMMARY: This notice announces the availability of our funding, through grants, for eligible States under the Ticket to Work and Work Incentives Improvement Act of 1999. The grant program is designed to assist States in developing infrastructures to support the competitive employment of people with disabilities by extending necessary Medicaid coverage to these individuals. This notice also contains pertinent information where States may apply for the grant program.

DATES: States should submit a notice of intent to apply for a grant no later than March 15, 2001.

Deadline for Grant Submission: Grant applications must be submitted by May 21, 2001 to be considered under the Fiscal Year 2002 annual funding cycle.

ADDRESSES: Standard application forms and related instructions are available from and must be formally submitted to: Marilyn Lewis-Taylor, Health Care Financing Administration, Office of Internal Customer Support, AGG, Grants Management Staff, Mail Stop C2-15-21, 7500 Security Boulevard, Baltimore, Maryland 21244-1850, (410) 786-5701, Internet:Mlewistaylor@hcfa.gov.

Please note: While State agencies are only required to submit an original and two copies, submission of an original and 14 copies will greatly expedite the application process.

Website: You may access up-to-date information about the Medicaid Infrastructure Grants and obtain a complete Grant Solicitation at: http://www.hcfa.gov/medicaid/twwiia/twwiiahp.htm.

FOR FURTHER INFORMATION CONTACT: Questions about the grants may be directed to: Joe Razes, TWWIIA Program Manager, Disabled and Elderly Health Programs Group, Center for Medicaid and State Operations, Health Care Financing Administration, Room S2-14-26, 7500 Security Boulevard, Baltimore, MD 21244-1850, (410) 786-6126, Internet:JRazes@hcfa.gov.

SUPPLEMENTARY INFORMATION: On May 31, 2000, we published a notice in the Federal Register (65 FR 34715) to announce our availability of funding, through grants, for eligible States under the Ticket to Work and Work Incentives Improvement Act of 1999. In that notice, we solicited eligible States to apply for those grants to provide financial assistance for the Competitive Employment of People with Disabilities under the Medicaid program. States that wish to apply for these grants and desire further detailed information, such as application requirements, review procedures, an explanation of a timely submission, and other relevant information, should refer to the above-mentioned Federal Register notice and Website listed.

Authority: Section 203 of the Ticket to Work and Work Incentive Improvement Act of 1999, Public Law 106-170. (Catalog of Federal Domestic Assistance Program No. 93.779, Health Care Financing Research, Demonstration, and Evaluations)

Dated: January 5, 2001.
Robert A. Berenson,
Acting Deputy Administrator, Health Care Financing Administration.

[FR Doc. 01-814 Filed 1-10-01; 8:45 am]

BILLING CODE 4120-01-P